NATIONAL AERONAUTICS AND SPACE ADMINISTRATION

[Notice (01-110)]

U.S. Centennial of Flight Commission

AGENCY: National Aeronautics and Space Administration.

ACTION: Notice of meeting.

SUMMARY: In accordance with the Federal Advisory Committee Act, Public Law 92-463, as amended, the National Aeronautics and Space Administration announces a meeting of the U.S. Centennial of Flight Commission.

DATES: Thursday, October 4, 2001, 1:00 p.m. to 5:00 p.m.

ADDRESSES: National Aeronautics and Space Administration, 300 E Street, SW., Room 9H40 (Program Review Center), Washington, DC 20546. Attendees must check in at the Security Desk to be cleared to the 9th floor conference room.

FOR FURTHER INFORMATION CONTACT: Ms. Beverly Farmarco, Code ZC, National Aeronautics and Space Administration, Washington, DC 20546, 202/358-1903.

SUPPLEMENTARY INFORMATION: The meeting will be open to the public up to the seating capacity of the room. The agenda for the meeting is as follows:

—Opening Comments

—Advisory Board Feedback

—Presentation by Mr. Ken Hyde, Experimental Aircraft Association

—Ohio Activities Update

—Outreach Plan

—Discussion

—Closing Comments

—Adjourn

It is imperative that the meeting be held on this date to accommodate the scheduling priorities of the key participants. Visitors will be requested to sign a visitor register.

Beth M. McCormick,
Advisory Committee Management Officer, National Aeronautics and Space Administration.

[FR Doc. 01-22839 Filed 9-11-01; 8:45 am]

BILLING CODE 7510-01-U